DEPARTMENT OF HEALTH AND HUMAN SERVICES

Administration for Children and Families

[CFDA Number: 93.576]

Announcement of Award of an Urgent Single-Source Grant to Gulf Coast Jewish Family and Community Services in Clearwater, FL

AGENCY: Office of Refugee Resettlement, ACF, HHS.

ACTION: Notice of the award of an urgent single-source grant to Gulf Coast Jewish Family and Community Services to provide mental health technical assistance services for refugees.

SUMMARY: The Administration for Children and Families (ACF), Office of Refugee Resettlement (ORR) announces the award of an urgent single-source grant in the amount of $225,000 to Gulf Coast Jewish Family and Community Services (Gulf Coast) in Clearwater, FL to train providers to effectively identify and appropriately serve the mental health needs of arriving refugee populations.

DATES: The two-year project period for the award is December 1, 2015 through November 30, 2017.

FOR FURTHER INFORMATION CONTACT: Kenneth Tota, Deputy Director, Office of Refugee Resettlement, 330 C. Street, SW., Washington, DC 20201. Telephone: 202-401-4858. Email: kenneth.tota@acf.hhs.gov

SUPPLEMENTARY INFORMATION: In the past few years, ORR has seen an increasing need for mental health services among newly-arrived refugees, particularly those who have suffered torture and extreme trauma due to war and genocide. ORR has received numerous reports of refugees from Bhutan and Burma completing suicide. Bhutanese refugees, in particular, have demonstrated a high incidence of suicide upon arrival to the U.S. This fiscal year the program is seeing a significant increase in resettlement of refugees from the Democratic Republic of Congo and Syria.

Refugees face significant barriers to accessing mental health resources since they are unfamiliar with community mental health systems, speak limited English, and have few financial resources. Health and mental health providers are often overwhelmed by the linguistic and cultural differences that refugees present and respond by saying they are unable to provide services. Currently the provision of standardized mental health screening and culturally appropriate mental health services is one the primary challenges facing the US resettlement program. There is no direct provision of much needed mental health services to refugees in many primary resettlement locations.

Gulf Coast has been a longstanding refugee resettlement program and also has been a grantee under the ORR Survivors of Torture program for the past 15 years. In addition, Gulf Coast has provided technical assistance and mental health services to a national network of refugee service providers and mainstream health and mental health professionals for the past 9 years. Gulf Coast is recognized as the primary refugee mental health technical assistance provider to states without a survivor of torture program. As a result of Gulf Coast's training and technical assistance 6 states applied for and received ORR grants to provide direct services to survivors. They are the only technical assistance provider with expertise in both refugee resettlement and direct services to survivors of torture. They are the only national technical assistance provider with expertise in both refugee resettlement and direct services to survivors of torture.

Gulf Coast's National Partnership for Community Training (NPCT) has provided technical assistance and training services to ORR grantees and other refugee service providers since 2006.

It is expected that ORR will provide awards to this grantee for a 2-year project period with 12-month budget periods. The grantee will be required to submit applications for noncompetitive awards in the subsequent year during the project period. Future awards will be based on the grantee's performance, the availability of funds, and the best interest of the Federal Government.

Statutory Authority: This program is authorized by—

(A) Section 412 (c)(1)(A) of the Immigration and Nationality Act (INA)(8 U.S.C. 1522(c)(1)(A)), as amended, which authorizes the Director “to make grants to, and enter into contracts with, public or private nonprofit agencies for projects specifically designed—[. . .](i) to assist refugees in obtaining the skills that are necessary for economic self-sufficiency, including projects for job training, employment services, day care, professional refresher training, and other recertification services; (ii) to provide training in English where necessary (regardless of whether the refugees are employed or receiving cash or other assistance); and (iii) to provide where specific needs have been shown and recognized by the Director, health (including mental health) services, social services, education and other services.”

(B) Refugee Assistance Extension Act of 1986, Pub.L. 99-605, Nov 6, 1986, 100 Stat. 3449.

Christopher Beach,
Senior Grants Policy Specialist, Division of Grants Policy, Office of Administration.

[FR Doc. 2016-12462 Filed 5-25-16; 8:45 am]

BILLING CODE 4184-45-P